DEPARTMENT OF ENERGY

Federal Energy Regulatory Commission

[Docket No. OR03-4-000]

Plantation Pipe Line Company, Complainant, v. Colonial Pipeline Company, Respondent; Notice of Complaint

May 16, 2003.

Take notice that on May 15, 2003, pursuant to Rule 206 of the Commission's Rules of Practice and Procedure (18 CFR 385.206) and the Procedural Rules Applicable to Oil Pipeline Procedures (18 CFR 343.1(a)), Plantation Pipe Line Company (Plantation) filed a complaint in the captioned proceeding. Plantation alleges that Colonial Pipeline Company (Colonial) has violated and continues to violate the Interstate Commerce Act, 49 U.S.C. App.1 et seq., by refusing to permit an interconnection with Plantation's pipeline at Greensboro, North Carolina as more fully set forth in the complaint.

Plantation requests that the Commission: (1) Direct Colonial to cooperate in the installation of the requested interconnection; and (2) establish through routes for volumes received from Plantation through the interconnection to Colonial destinations downstream of Greensboro.

Plantation states that it has served the complaint on Colonial.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date below. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: June 4, 2003.

Magalie R. Salas,
Secretary.

[FR Doc. 03-12916 Filed 5-21-03; 8:45 am]

BILLING CODE 6717-01-P